DEPARTMENT OF COMMERCE

National Telecommunications and Information Administration

NTIA Listening Session on Kids' Excessive Screen Time

AGENCY: National Telecommunications and Information Administration, U.S. Department of Commerce.

ACTION: Notice of open meeting.

SUMMARY: The National Telecommunications and Information Administration (NTIA) will convene a virtual listening session on the drivers and consequences of excessive screen use in schools, including the growing reliance on individual devices and educational technology services and applications. The discussion will also examine how federal law, broadband funding, and other federal programs may influence school-based device and digital platform use. This session will gather input from stakeholders and subject matter experts to inform NTIA's future planning, policy development, and programming related to federal broadband and communications policy and its relationship to children's technology usage. Insights from this discussion will inform NTIA research assessing the impacts of excessive screen use in schools, the role of federal rules and federal funding in shaping device and platform markets, and the practices surrounding the collection and use of children's data by education technology platforms.

DATES: The listening session will be held on December 10, 2025, from 12:00 p.m. to 1:30 p.m., Eastern Standard Time.

ADDRESSES: The session will be held virtually, with online dial-in information to be posted at https://www.ntia.gov.

FOR FURTHER INFORMATION CONTACT: Please direct questions regarding this notice to kids@ntia.gov, indicating “Kids' Excessive Screen Time Listening Session” in the subject line, or if by mail, addressed to National Telecommunications and Information Administration, U.S. Department of Commerce, 1401 Constitution Avenue NW, Washington, DC 20230; telephone: 202-482-3806. Please direct media inquiries to NTIA's Office of Public Affairs at press@ntia.gov.

SUPPLEMENTARY INFORMATION:

Background and Authority

The National Telecommunications and Information Administration (NTIA), part of the U.S. Department of Commerce, is the President's principal advisor on telecommunications and information policy issues. NTIA's programs and policymaking focus largely on expanding broadband internet access and adoption in America, expanding the use of spectrum by all users, advancing public safety communications, and ensuring that the internet remains an engine for innovation and economic growth. This includes examining how broadband access is used in different contexts, including in educational settings. Pursuant to our authorities under 47 U.S.C. 902(b)(2)(M), NTIA will host a public listening session to gather stakeholder perspectives that will inform NTIA's ongoing research.

Time and Date: NTIA will convene the public listening session on December 10, 2025, from 12:00 p.m. to 1:30 p.m., Eastern Standard Time. The exact time of the meeting is subject to change. Please refer to NTIA's website https://www.ntia.gov, for the most current information.

Place: The meeting will be held virtually, with dial-in information to be posted at https://www.ntia.gov. Please refer to NTIA's website, https://www.ntia.gov for current information.

The virtual meeting is open to the public and the press on a first-come, first-served basis. The virtual meeting is accessible to people with disabilities. Individuals requiring accommodations such as real-time captioning, sign language interpretation or other ancillary aids should notify the Department at kids@ntia.gov at least seven (7) business days prior to the meeting. Access details for the meeting are subject to change. Please refer to NTIA's website, https://www.ntia.gov, for the most current information.

Dated: November 24, 2025.
Diana Moreno,
Acting Deputy Chief Counsel, National Telecommunications and Information Administration.

[FR Doc. 2025-21295 Filed 11-25-25; 8:45 am]

BILLING CODE 3510-60-P